FEDERAL COMMUNICATIONS COMMISSION

[FR ID 255163]

Deletion of Item From October 17, 2024 Open Meeting

October 15, 2024.

The following item has been deleted from the list of items scheduled for consideration at the Thursday, October 17, 2024, Open Meeting. Item No. 3 was deleted by the Commission on Tuesday, October 15, 2024. The item was previously listed in the Commission's Sunshine Notice on Thursday, October 10, 2024.

Item No. | Bureau | Subject
3 | Media | Title: Restricted Adjudicatory Matter Summary: The Commission will consider a restricted adjudicatory matter from the Media Bureau.

Federal Communications Commission.
Marlene Dortch,
Secretary.

[FR Doc. 2024-24537 Filed 10-22-24; 8:45 am]

BILLING CODE 6712-01-P